DEPARTMENT OF THE INTERIOR

National Park Service

National Register of Historic Places; Notification of Pending Nominations and Related Actions

Nominations for the following properties being considered for listing or related actions in the National Register were received by the National Park Service before October 14, 2006. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington, DC 20005; or by fax, 202-371-6447. Written or faxed comments should be submitted by November 15, 2006.

John W. Roberts,
Acting Chief, National Register/National Historic Landmarks Program.

CALIFORNIA

Lake County

Rattlesnake Island, 12900 Sulphur Bank Mine Rd., Clearlake Oaks, 06001047

COLORADO

El Paso County

Edgeplain, 1106 N. Nevada Ave., Colorado Springs, 06001048

Rice, Ida M., House, 1196 N. Cascade Ave., Colorado Springs, 06001049

DELAWARE

Sussex County

Roosevelt Inlet Shipwreck, Lower Delaware Bay, Lewes, 06001056

KANSAS

Butler County

Oldham, James T., House, 321 S. Denver St., El Dorado, 06001054

Ness County

Tilley, Henry, House, 108 W. 2nd St., Ransom, 06001053

Osborne County

Natoma Presbyterian Church, 408 N. 3rd St., Natoma, 06001052

Riley County

Community House, 120 N. 4th St., Manhattan, 06001051

Smith County

Allen's Market, 2938 E. Douglas Ave., Wichita, 06001050

MASSACHUSETTS

Franklin County

Colrain Center Historic District, Main, Greenfield, Jacksonville Rds., Streeter Ln, River and Coburn Sts., Colrain, 06001057

NEBRASKA

Custer County Broken Bow Commercial Square Historic District, Five blks in downtown Broken Bow centered around public square, Broken Bow, 06001058

Dawes County

Chadron Commercial Historic District, Main St. & 2nd St., Chadron, 06001059

NEVADA

Clark County

Woodlawn Cemetery, 1500 Las Vegas Blvd N, Las Vegas, 06001060

PENNSYLVANIA

Dauphin County

Derry Session House and Enclosure, 248 E. Derry Rd., Hershey, 06001061

Erie County

Academy Hall, On the campus of Edinboro University, Jct. of Highland and Normal Sts, Edinboro, 06001055

RHODE ISLAND

Providence County

Pascoag Grammar School, 265 Sayles Ave., Burrillville, 06001062

TEXAS

Harris County

First Evangelical Church, 1311 Holman St., Houston, 06001066

Orange Show, 2401 Munger St., Houston, 06001063

Kleberg County

Nance-Jones House, 426 E. Johnston Ave., Kingsville, 06001064

Tarrant County

Eighth Avenue Historic District, Bounded by 8th Ave., Pennsylvania Ave., 9th Ave., and Pruitt St., Fort Worth, 06001065

UTAH

Garfield County

Panguitch Historic District, Roughly bounded by 500 North, 400 East, 500 South, and 300 West, Panguitch, 06001068

Salt Lake County

Ashby Apartments, 358 E. 100 South, Salt Lake City, 06001067

WISCONSIN

Walworth County

Sheboygan Light, Power and Railway Company Car #26, 2015 Division St., East Troy, 06001069

[FR Doc. E6-18302 Filed 10-30-06; 8:45 am]

BILLING CODE 4312-51-P